DEPARTMENT OF COMMERCE

National Oceanic and Atmospheric Administration

[I.D. /707A]

Annual National Marine Fisheries Service/State Marine Fisheries Directors Meeting

AGENCY: National Marine Fisheries Service (NMFS), National Oceanic and Atmospheric Administration (NOAA), Commerce.

ACTION: Notice of open public meetings.

SUMMARY: Notice is hereby given of an annual meeting of the National Marine Fisheries Service (NMFS) and the State Marine Fisheries Directors. This annual meeting provides the opportunity for State and Federal fishery managers to discuss fishery management areas of concern. The meeting will be hosted by the Pacific States Marine Fisheries Commission(PSMFC). All sessions will be open to the public.

DATES: The meeting will be held on May 1 - May 3, 2007. See SUPPLEMENTARY INFORMATION for dates, times, and agenda.

ADDRESSES: The meeting will be held at the Hotel Del Coronado, 1500 Orange Avenue, Coronado, CA 92118, (800) HOTELDEL.

FOR FURTHER INFORMATION CONTACT: Chris Moore, Chief, Partnerships and Communications Division, Office of Sustainable Fisheries, NMFS; telephone: (301) 713-2379 x165.

SUPPLEMENTARY INFORMATION: As required by section 10(a) (2) of the Federal Advisory Committee Act, 5 U.S.C. App. 2, notice is hereby given of this meeting. This annual meeting provides the opportunity for State Marine Fisheries Directors and Federal fishery managers to discuss fishery management areas of concern.

Tuesday, May 1, 2007

8 a.m. to 8:30 a.m. - Opening remarks and introductions will be presented by Dr. William T. Hogarth, Assistant Administrator for Fisheries, and by Mr. Randy Fisher, Executive Director of PSMFC.

8:30 a.m. to 10 a.m. - Presentations by the three Interstate Marine Fisheries Commissions; overview of state activities, and Gulf States experience with natural disasters.

10:30 a.m. to 11:30 a.m. - Implementation of Magnuson-Stevens Fishery Management and Conservation Act (MSA) will be presented; recreational fisheries registry and recreational fisheries data Marine Recreational Fisheries Statistical Survey (MRFSS) and National Research Council (NRC).

1 p.m. to 3 p.m. - Discussion on recreational data issues (continued).

3:30 p.m. to 4 p.m. - Implementation of MSA will be presented; annual catch limits/accountability measures.

4 p.m. to 4:30 p.m. - Science concerns and stock assessments will be discussed.

4:30 p.m. to 5 p.m. - NOAA Fisheries Budget will be discussed.

Wednesday, May 2, 2007

8 a.m. to 9 a.m. - Implementation of MSA will be presented; National Environmental Protection Act (NEPA).

9 a.m. to 10 a.m. - Enforcement updates and vessel monitoring system (VMS) will be presented.

10:30 a.m. to 11 a.m. - Specific management issues will be discussed; circle hooks, etc.

11 a.m. to 11:30 a.m. - National Outreach Plan will be presented.

1 p.m. to 2 p.m. - National Fish Habitat Plan will be presented.

2 p.m. to 3 p.m. - Aquaculture Legislation update will be presented.

3:30 p.m. to 5:30 p.m. - State Directors will discuss areas of concern: grants, etc.

Thursday, May 3, 2007

8 a.m. to 10 a.m. - State Directors discussion of areas of concern (continue).

10 a.m. to 11 a.m. - Wrap-up meeting.

The above agenda items may not be taken in the order in which they appear and are subject to change as necessary to allow for full discussion.

Special Accommodations

These meetings are physically accessible to people with disabilities. Requests for sign language interpretation or other auxiliary aids should be directed to Chris Moore, Chief, Partnerships and Communications Division, Office of Sustainable Fisheries, NMFS; telephone: (301) 713-2379 ext: 165, at least 5 days prior to the meeting date.

Dated: April 2, 2007.
James P. Burgess,
Acting Director, Office of Sustainable Fisheries, National Marine Fisheries Service.

[FR Doc. E7-6399 Filed 4-5-07; 8:45 am]

BILLING CODE 3510-22-S